FEDERAL COMMUNICATIONS COMMISSION

47 CFR Part 15

[ET Docket No. 05-24; FCC 05-121]

DTV Tuner Requirements

AGENCY: Federal Communications Commission.

ACTION: Proposed rule.

SUMMARY: This document proposes to advance the date on which all new television receiving equipment must include the capability to receive over-the-air DTV broadcast signals from July 1, 2007, to a date no later than December 31, 2006. This revision would require all television receivers to include DTV tuners on a schedule not later than the statutory target date for the end of the DTV transition, when analog television service is to end. This proposal is intended to apply the DTV tuner requirement to all TV receivers on an advanced schedule that will allow a more rapid completion of the DTV transition while providing manufacturers with adequate time to include DTV tuners in all their TV products.

DATES: Comments must be filed on or before July 27, 2005, and reply comments must be filed on or before August 10, 2005.

ADDRESSES: You may submit comments, identified by [ET Docket No. 05-24] by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Alan Stillwell, Office of Engineering and Technology, (202) 418-2925, e-mail: Alan.Stillwell@fcc.gov, TTY (202) 418-2989.

SUPPLEMENTARY INFORMATION: This is a summary of the Commission's Further Notice of Proposed Rule Making (FNPRM), ET Docket No. 05-24, FCC 05-121, adopted June 9, 2005, and released June 9, 2005. The full text of this document is available for inspection and copying during normal business hours in the FCC Reference Center (Room CY-A257), 445 12th Street, SW., Washington, DC 20554. The complete text of this document also may be purchased from the Commission's copy contractor, Best Copy and Printing, Inc. (BCPI), 445 12th Street, SW., Room CY-B402, Washington, DC 20554. The full text may also be downloaded at: http://www.fcc.gov. Alternate formats are available to persons with disabilities at TTY (202) 418-7365.

Pursuant to §§ 1.415 and 1.419 of the Commission's rules, 47 CFR 1.415, 1.419, interested parties may file comments on or before July 27, 2005, and reply comments on or before August 10, 2005. Comments may be filed using the Commission's Electronic Comment Filing System (ECFS) or by filing paper copies. See Electronic Filing of Documents in Rulemaking Proceedings, 63 FR 24121, May 1, 1998. Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply. Parties who choose to file by paper must file an original and four copies of each filing. If more than one docket or rulemaking number appears in the caption of this proceeding, commenters must submit two additional copies for each additional docket or rulemaking number.

All filings must be addressed to the Commission's Secretary, Office of the Secretary, Federal Communications Commission. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express mail, and Priority Mail should be addressed to 445 12th Street, SW., Washington, DC 20554.

Summary of Further Notice of Proposed Rulemaking

1. Consistent with the need to promote a rapid end to the DTV transition, we now believe it would also be appropriate to advance the date on which all new television receiving equipment must include the capability to receive over-the-air broadcast DTV signals from July 1, 2007, to a date no later than December 31, 2006. This change would advance the date for all TV receivers to include a DTV tuner to a date not later than the statutory target date for the end of the transition. We specifically request suggestions for a date no later than December 31, 2006, that would be appropriate for requiring all new television receivers to include DTV reception capability. We believe that including DTV tuners in smaller screen and other traditionally low priced receiver products would not force substantial increases in the price of such products. The majority of all televisions are sets 25″ and larger. We believe that the economies of scale needed to support reductions on the incremental price of DTV tuner equipped products will therefore be achieved in the introduction of DTV tuners in these mid-size and large screen products, which will occur more than a year earlier. We therefore believe that the price increases for small screen and other receivers will be more modest. In this regard, we observe that Zoran Corporation has indicated to the Commission in an ex parte contact that it has developed a reference board that includes a low-cost DTV receiver. It states that this board could be used to manufacture a set-top box that provides DTV reception at the standard definition display level to allow analog-only receivers to display DTV signals for about $65. Zoran further states that the DTV tuning capability of this board could be incorporated into a TV receiver with display at this time for about a $80-100 retail price increase and that this price would decrease dramatically with increasing volume. We request comment on this proposal and suggestions for alternative approaches for including DTV reception capability in all TV receiving devices on a schedule reflective of the statutory target date for the end of the DTV transition.

2. We also seek comment on whether the requirement to include a DTV tuner in new receivers should be extended to receivers with screen sizes less than 13″ inches. We note that if such devices are to provide off-the-air reception of TV signals after the transition, they too must be able to receive DTV signals and that it is less likely that such products, and particularly handheld and similar portable devices, would be used with a separate device for receiving DTV signals.

3. In order to allow the Commission to conclude action in these proposals in an expeditious manner so as to afford manufacturers the maximum time to prepare to comply with new rules, we are limiting the comment and reply comment periods on these proposals to 21 days and 14 days respectively.

Initial Regulatory Flexibility Analysis

4. As required by the Regulatory Flexibility Act of 1980, as amended (RFA),¹ the Commission has prepared this Initial Regulatory Flexibility Analysis (IRFA) of the possible significant economic impact on small entities by the policies and rules proposed in the Further Notice of Proposed Rulemaking (FNPRM) portion of this action.² Written public comments are requested on this IRFA. Comments must be identified as responses to the IRFA and must be filed by the deadlines for comments on the NPRM. The Commission will send a copy of the FNPRM, including this IRFA, to the Chief Counsel for Advocacy of the Small Business Administration.³ In addition, the FNPRM and IRFA (or summaries thereof) will be published in the Federal Register.⁴

¹ See 5 U.S.C. 603. The RFA, see 5 U.S.C. 601-612, has been amended by the Small Business Regulatory Enforcement Fairness Act of 1996 (SBREFA), Public Law 104-121, Title II, 110 Stat. 857 (1996).

² See Report and Order and Further Notice of Proposed Rulemaking in ET Docket No. 05-24, FCC 05-121, released June 9, 2005.

³ See 5 U.S.C. 603(a).

⁴ See id.

A. Need for and Objectives of the Proposed Rules. As described in the FNPRM, the changes to the rules being considered in this proceeding are intended to ensure a smooth transition of the nation's television system to digital television. Beginning in 1987, the Commission undertook to bring the most up-to-date technology to broadcast television.⁵ That resulted in several Commission decisions, including those adopting a digital television (DTV) standard,⁶ DTV service rules,⁷ and a Table of DTV Allotments.⁸ The Table of DTV Allotments provides each existing television broadcaster with a second channel on which to operate a DTV station for the transition period, after which one of its channels will revert to the government for use in other services. The transition deadline established by Congress is December 31, 2006.

⁵ See Notice of Inquiry in MM Docket No. 87-268, 2 FCC Rcd 5125 (1987), 52 FR 34259, September 10, 1987; see also Tentative Decision and Further Notice of Proposed Rulemaking in MM Docket No. 87-268, 3 FCC Rcd 6520 (1988), 53 FR 38747, October 3, 1998.

⁶ See Fourth Report and Order in MM Docket No. 87-268, 11 FCC Rcd 17771 (1996), 62 FR 14006, March 25, 1997.

⁷ See Fifth Report and Order in MM Docket No. 87-268, 12 FCC Rcd 12809 (1997), 63 FR 13546, May 20, 1998.

⁸ See Sixth Report and Order in MM Docket No. 87-268, 12 FCC Rcd 14588 (1997), 62 FR 2668, July 11, 1997.

5. Consistent with its efforts to promote the expeditious completion of the DTV transition, the Commission adopted a requirement that all new television receivers imported or shipped in interstate commerce after July 1, 2007 include the capability to receive DTV signals off-the-air. In order to minimize the impact of the DTV tuner requirement on both manufacturers and consumers, the Commission adopted a phase-in schedule that applies the DTV tuner requirement first to receivers with the screens and then to progressively smaller screen receivers and other TV receiving devices. Consistent with the need to promote a rapid end to the DTV transition, we now believe it would also be appropriate to advance the date on which all new television receiving equipment must include the capability to receive over-the-air broadcast DTV signals from July 1, 2007, to December 31, 2006. This change would move the date for all TV receivers to include a DTV tuner forward six months to coincide with the statutory end of the transition and also provide adequate time for manufacturers to modify their products to include DTV tuners in all new television sets.⁹

⁹ See 47 U.S.C. 309(j)(14)(A).

B. Legal Basis.

6. The authority for the action proposed in this rulemaking is contained in sections 4(i) & (j), 303, 307, 309 and 336 of the Communications Act of 1934, as amended, 47 U.S.C. 154(i) & (j), 303, 307, 309 and 336.

C. Description and Estimate of the Number of Small Entities to Which the Proposed Rules Will Apply.

7. The RFA directs the Commission to provide a description of and, where feasible, an estimate of the number of small entities that will be affected by the proposed rules.¹⁰ The RFA generally defines the term “small entity” as having the same meaning as the terms “small business,” “small organization,” and “small governmental entity.” ¹¹ In addition, the term “small business” has the same meaning as the term “small business concern” under the Small Business Act.¹² A small business concern is one which: (1) Is independently owned and operated; (2) is not dominant in its field of operation; and (3) satisfies any additional criteria established by the Small Business Administration (SBA).¹³

¹⁰ 5 U.S.C. 603(b)(3).

¹¹ 5 U.S.C. 601(6).

¹² 5 U.S.C. 601(3) (incorporating by reference the definition of “small business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

¹³ 15 U.S.C. 632.

Electronics Equipment Manufacturers. Rules adopted in this proceeding would apply to manufacturers of DTV receiving equipment and other types of consumer electronics equipment. The SBA has developed definitions of small entity for manufacturers of audio and video equipment ¹⁴ as well as radio and television broadcasting and wireless communications equipment.¹⁵ These categories both include all such companies employing 750 or fewer employees. The Commission has not developed a definition of small entities applicable to manufacturers of electronic equipment used by consumers, as compared to industrial use by television licensees and related businesses. Therefore, we will utilize the SBA definitions applicable to manufacturers of audio and visual equipment and radio and television broadcasting and wireless communications equipment, since these are the two closest NAICS Codes applicable to the consumer electronics equipment manufacturing industry. However, these NAICS categories are broad and specific figures are not available as to how many of these establishments manufacture consumer equipment. According to the SBA's regulations, an audio and visual equipment manufacturer must have 750 or fewer employees in order to qualify as a small business concern.¹⁶ Census Bureau data indicates that there are 554 U.S. establishments that manufacture audio and visual equipment, and that 542 of these establishments have fewer than 500 employees and would be classified as small entities.¹⁷ The remaining 12 establishments have 500 or more employees; however, we are unable to determine how many of those have fewer than 750 employees and therefore, also qualify as small entities under the SBA definition. Under the SBA's regulations, a radio and television broadcasting and wireless communications equipment manufacturer must also have 750 or fewer employees in order to qualify as a small business concern.¹⁸ Census Bureau data indicates that there 1,215 U.S. establishments that manufacture radio and television broadcasting and wireless communications equipment, and that 1,150 of these establishments have fewer than 500 employees and would be classified as small entities.¹⁹ The remaining 65 establishments have 500 or more employees; however, we are unable to determine how many of those have fewer than 750 employees and therefore, also qualify as small entities under the SBA definition. We therefore conclude that there are no more than 542 small manufacturers of audio and visual electronics equipment and no more than 1,150 small manufacturers of radio and television broadcasting and wireless communications equipment for consumer/household use.

¹⁴ 13 CFR 121.201 (NAICS Code 334310).

¹⁵ 13 CFR 121.201 (NAICS Code 334220).

¹⁶ 13 CFR 121.201 (NAICS Code 334310).

¹⁷ Economics and Statistics Administration, Bureau of Census, U.S. Department of Commerce, 1997 Economic Census, Industry Series—Manufacturing, Audio and Video Equipment Manufacturing, Table 4 at 9 (1999). The amount of 500 employees was used to estimate the number of small business firms because the relevant Census categories stopped at 499 employees and began at 500 employees. No category for 750 employees existed. Thus, the number is as accurate as it is possible to calculate with the available information.

¹⁸ 13 CFR 121.201 (NAICS Code 513220).

¹⁹ Economics and Statistics Administration, Bureau of Census, U.S. Department of Commerce, 1997 Economic Census, Industry Series—Manufacturing, Radio and Television Broadcasting and Wireless Communications Equipment Manufacturing, Table 4 at 9 (1999). The amount of 500 employees was used to estimate the number of small business firms because the relevant Census categories stopped at 499 employees and began at 500 employees. No category for 750 employees existed. Thus, the number is as accurate as it is possible to calculate with the available information.

Computer Manufacturers. The Commission has not developed a definition of small entities applicable to computer manufacturers. Therefore, we will utilize the SBA definition of electronic computers manufacturing. According to SBA regulations, a computer manufacturer must have 1,000 or fewer employees in order to qualify as a small entity.²⁰ Census Bureau data indicates that there are 563 firms that manufacture electronic computers and of those, 544 have fewer than 1,000 employees and qualify as small entities.²¹ The remaining 19 firms have 1,000 or more employees. We conclude that there are approximately 544 small computer manufacturers.

²⁰ 13 CFR 121.201 (NAICS Code 334111).

²¹ Economics and Statistics Administration, Bureau of Census, U.S. Department of Commerce, 1997 Economic Census, Industry Series—Manufacturing, Electronic Computer Manufacturing, Table 4 at 9 (1999).

D. Description of Projected Reporting, Recordkeeping and Other Compliance Requirements.

8. At this time, we do not expect that the rule changes being considered in this proceeding would impose any additional recordkeeping or recordkeeping requirements. While the modifications being considered in the NPRM could have an impact on consumer electronics manufacturers and broadcasters, we anticipate at this time that such impact would be similarly costly for both large and small entities. We seek comment on whether others perceive a need for recordkeeping under specific options for addressing the issues in the NPRM and, if so, whether the burden would fall on large and small entities differently.

E. Steps Taken To Minimize Significant Impact on Small Entities, and Significant Alternatives Considered.

9. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.²²

²² 5 U.S.C. 603.

10. The rule changes under consideration in this proceeding propose a revision in the schedule for implementation of the requirement that new television receivers include the capability for reception of broadcast DTV signals. We requested comment on a proposal that would advance to December 31, 2006 (from the current July 1, 2007), the date by which all television receivers with screen sizes 13″ and larger that are imported into the United States or shipped in interstate commerce must include the capability to receive over-the-air DTV broadcast signals. Because of our concern for advancing the full compliance date in a manner that would pose no unnecessary economic burden on smaller entities, we invited interested parties to submit alternative suggestions for revising and suggestions for alternative approaches for including DTV reception capability in all TV receivers on a schedule to coincide with statutory end of the DTV transition. We also invited comment on whether we should also extend the DTV tuner requirement to TV receivers with screen sizes less than 13″.

F. Federal Rules Which Duplicate, Overlap, or Conflict With the Commission's Proposals. None.

11. Ordering Clauses. Pursuant to the authority contained in sections 2(a), 4(i) & (j), 7, 151 and 303 of the Communications Act of 1934 as amended, 47 U.S.C. 152(a), 154(i) & (j), 157, and 303, this Notice of Proposed Rule Making is adopted.

12. The Commission's Consumer and Governmental Affairs Bureau, Reference Information Center, shall send a copy of the Further Notice of Proposed Rulemaking, including the Initial Regulatory Flexibility Analysis, to the Chief Counsel for Advocacy of the Small Business Administration, to Congress and the General Accounting Office pursuant to the Congressional Review Act, see 5 U.S.C. 801(a)(1)(A).²³

²³ See 5 U.S.C. 603(a).

13. The Commission's Consumer and Governmental Affairs Bureau, Reference Information Center, will send a copy of this NPRM, including the IRFA, to the Chief Counsel for Advocacy of the Small Business Administration, in accordance with the Regulatory Flexibility Act.

List of Subjects in 47 CFR Part 15

Federal Communications equipment, Radio.

Federal Communications Commission.
Marlene H. Dortch,
Secretary.

Proposed Rule Changes

For the reasons set forth in the preamble, the Federal Communications Commission proposes to amends 47 CFR part 15 as follows:

PART 15—RADIO FREQUENCY DEVICES

1. The authority citation for part 15 continues to read as follows:

Authority: 47 U.S.C. 154, 303, 303, 304, 307, and 554A.

2. Section 15.117 is amended by revising paragraph (i)(1) to read as follows:

§ 15.117 TV broadcast receivers.

* * * * *

(i) * * *

(1) Responsible parties, as defined in § 2.909 of this chapter, are required to equip new TV broadcast receivers that are shipped in interstate commerce or imported from any foreign country into the United States and for which they are responsible to comply with the provisions of this section in accordance with the following schedule:

(i) Receivers with screen sizes 36″ and above—50% of all of a responsible party's units must include DTV tuners effective July 1, 2004; 100% of such units must include DTV tuners effective July 1, 2005

(ii) Receivers with screen sizes 25″ to less than 36″—50% of all of a responsible party's units must include DTV tuners effective July 1, 2005; 100% of such units must include DTV tuners effective March 1, 2006

(iii) Receivers with screen sizes 13″ to less than 25″—100% of all such units must include DTV tuners effective December 31, 2006

(iv) Other devices (videocassette recorders (VCRs), digital video disk and digital versatile disk (DVD) players/recorders, etc.) that receive television signals—100% of all such units must include DTV tuners effective December 31, 2006.

* * * * *

[FR Doc. 05-13029 Filed 7-5-05; 8:45 am]

BILLING CODE 6712-01-P